DEPARTMENT OF DEFENSE

Department of the Navy

Notice of Availability of Government-Owned Inventions; Available for Licensing

AGENCY: Department of the Navy, DoD.

ACTION: Notice.

SUMMARY: The inventions listed below are assigned to the U.S. Government as represented by the Secretary of the Navy and are available for licensing by the Department of the Navy (DON). Navy Case No. 73,962: Light Weight Thermal Heat Transfer, U.S. Patent Application No. 10/056,812 filed on January 24, 2002.//Navy Case No. 76,519: Method For Reducing Hazards, U.S. Patent Application No. 11/220,189 filed on September 01, 2005.//Navy Case No. 82,261: System For Implementing A GVP, U.S. Patent Application No. 10/255,413 filed on September 26, 2004.//Navy Case No. 83,036: Imagery Analysis Tool, U.S. Patent Application No. 11/417,283 filed on May 01, 2006.//Navy Case No. 96,721: Wireless Blade Monitoring System, U.S. Patent Application No. 11/198,415 filed on August 04, 2005.//Navy Case No. 83,683: Method For Comparing Tabular Data, U.S. Patent Application No. 10/956,522 filed on September 23, 2004.// Navy Case No. 84,935: Cleaning Device For Fiber Optic Connectors, U.S. Patent Application No. 11/499,977 filed on August 03, 2006.//Navy Case No. 95,903: Bond Integrity Tool, U.S. Patent Application No. 11/417,287 filed on May 01, 2006.//Navy Case No. 96,399: Fluids Mixing Nozzle, U.S. Patent Application No. 11/499,179 filed on June 05, 2006.// Navy Case No. 96,400: Apparatus And Method To Amalgamate Substances, U.S. Patent Application No. 11/357,460 filed on February 14, 2006.//Navy Case No. 97,397: Target Identification Method Using Cepstral Coefficients, U.S. Patent Application No. 11/434,573 filed on May 03, 2006.

ADDRESSES: Request for data and inventor interviews should be directed to Mr. Paul Fritz, Naval Air Warfare Center Aircraft Division, Business Office, Office of Research and Technology Applications, Building 505, Room 116, 22473 Millstone Road, Patuxent River, MD 20670, 301-342-5586 or e-mail Paul.Fritz@navy.mil.

DATES: Request for data, samples, and inventor interviews should be made prior to April 30, 2007.

FOR FURTHER INFORMATION CONTACT: Mr. Paul Fritz, Office of Research and Technology Applications, Building 505, Room 116, Naval Air Warfare Center Aircraft Division, 22473 Millstone Road, Patuxent River, MD 20670, 301-342-5586, Paul.Fritz@navy.mil.

SUPPLEMENTARY INFORMATION: The U.S. Navy intends to move expeditiously to license these inventions. All licensing application packages and commercialization plans must be returned to Naval Air Warfare Center Aircraft Division, Business Office, Office of Research and Technology Applications, Building 505, Room 116, 22473 Millstone Road, Patuxent River, MD 20670.

The DON, in its decisions concerning the granting of licenses, will give special consideration to existing licensee's, small business firms, and consortia involving small business firms. The DON intends to ensure that its licensed inventions are broadly commercialized throughout the United States.

PCT application may be filed for each of the patents as noted above. The DON intends that licensees interested in a license in territories outside of the United States will assume foreign prosecution and pay the cost of such prosecution.

Authority: 35 U.S.C. 207, 37 CFR Part 404.

Dated: December 19, 2006.
M. A. Harvison
Lieutenant Commander, Judge Advocate General's Corps, U. S. Navy, Federal Register Liaison Officer.

[FR Doc. E6-22278 Filed 12-27-06; 8:45 am]

BILLING CODE 3810-FF-P